DEPARTMENT OF DEFENSE

Office of the Secretary

FY 2010 Grant Competition Announcement; Promoting Student Achievement at Schools Impacted by Military Force Structure Changes

AGENCY: Department of Defense Education Activity, DoD.

ACTION: Grant competition announcement; amendment.

SUMMARY: The Department of Defense Education Activity (DoDEA) is amending the Promoting Student Achievement at Schools Impacted by Military Force Structure Changes grant competition announcement, which published in the Federal Register on November 24, 2009 (74 FR 61335-61337). Marion County Schools has been added as a local educational agency associated with Fort Benning.

FOR FURTHER INFORMATION CONTACT: Mr. Brian Pritchard, Contracts and Grants Liaison, Department of Defense Education Activity (DoDEA), e-mail: brian.pritchard@hq.dodea.edu.

Dated: January 26, 2010.
Mitchell S. Bryman,
Alternate OSD Federal Register Liaison Officer, Department of Defense.

[FR Doc. 2010-1830 Filed 1-28-10; 8:45 am]

BILLING CODE 5001-06-P